DEPARTMENT OF STATE

[Public Notice 8959]

International Telecommunication Advisory Committee; Solicitation of Membership

AGENCY: Department of State.

ACTION: Notice.

SUMMARY: The U.S. Coordinator for International Communications and Information Policy (“the Coordinator”), in the U.S. Department of State Bureau of Economic and Business Affairs, is accepting applications for membership on the International Telecommunication Advisory Committee (ITAC).

DATES: Applications must be received by the Department of State (at the email addresses at the end of this Notice) not later than December 16, 2014.

FOR FURTHER INFORMATION CONTACT: Franz Zichy, at zichyfj@state.gov.

SUPPLEMENTARY INFORMATION: The Department of State is soliciting applications from subject matter experts who are representatives of scientific or industrial organizations that are engaged in the study of telecommunications or in the design or manufacture of equipment intended for telecommunication services, representatives of civil society organizations and academia, and representatives of any other corporation or organization engaged in telecommunications and information policy matters. Applicants should include experience participating in international organizations addressing telecommunications and information technical and policy issues and assisting with U.S. involvement with such issues.

The ITAC is a Federal advisory committee under the authority of 22 U.S.C. 2651a and 2656 and the Federal Advisory Committee Act, 5 U.S.C. Appendix. (“FACA”). The purpose of the ITAC is to advise the Coordinator and the Department of State with respect to, and provide strategic planning recommendations on, telecommunication and information policy matters related to U.S. participation in the work of the International Telecommunication Union (ITU), the Organization of American States Inter-American Telecommunication Commission (CITEL), the Organization for Economic Cooperation and Development (OECD), the Asia Pacific Economic Cooperation Telecommunication & Information Working Group (APEC TEL) and other international bodies addressing telecommunications.

Members are appointed by the Coordinator and must be U.S. citizens or legal permanent residents of the United States, appointed as representatives of U.S. organizations. To ensure diversity in advice, ITAC membership will include not more than one representative from any affiliated agency or organization so long as the threshold of no fewer than 50 members is met. ITAC members will represent the views of their organizations. The ITAC charter calls for representative members; therefore, a prospective member must represent a company or organization. Solo members (who “represent themselves”) will not be selected. ITAC members must be versed in the complexity of international telecommunications issues and must be able to advise the Coordinator and the Department on these matters. Members are expected to use their expertise and provide candid advice.

Please note that ITAC members will not be reimbursed for travel, per diem, and other expenses incurred in connection with their duties as ITAC members. For those interested in applying: The ITAC currently intends to hold a meeting on or about January 14, 2015. A separate Federal Register notice will be published to announce the details of that meeting.

How to apply: Email applications in response to this notice to the addresses at the end of this notice. Applications must contain the following information: (1) Name of applicant; (2) citizenship of the applicant; (3) organizational affiliation and title, as appropriate; (4) mailing address; (5) work telephone number; (6) email address; (7) résumé; (8) summary of qualifications for ITAC membership and (9) confirmation that your organization or company expects you to represent their interests.

This information should be emailed to: zichyfj@state.gov and jacksonln@state.gov.

Dated: November 25, 2014.
Doreen F. McGirr,
Telecom Officer.

[FR Doc. 2014-28411 Filed 12-1-14; 8:45 am]

BILLING CODE 4710-07-P